SECURITIES AND EXCHANGE COMMISSION

[Release No. 34-44625; File No. 10-131]

The Nasdaq Stock Market, Inc; Extension of Comment Period for The Nasdaq Stock Market, Inc.'s Application for Registration as a National Securities Exchange Under Section 6 of the Securities Exchange Act of 1934 From July 30, 2001 to August 29, 2001

July 31, 2001.

The Nasdaq Stock Market, Inc. (“Nasdaq”) completed its application for registration as a national securities exchange (“Form 1”) under Section 6 ¹ of the Securities Exchange Act of 1934 and submitted it to the Securities and Exchange Commission (“Commission”) on March 15, 2001. Notice of Nasdaq's Form 1 application appeared in the Federal Register on June 13, 2001, and the deadline for public comment was July 30, 2001.²

¹ 15 U.S.C. 78(f).

² Securities Exchange Act Release No. 44396 (June 7, 2001), 66 FR 31952 (June 13, 2001).

In response to requests by the public to extend the comment period in order to provide additional time to review Nasdaq's Form 1, the Commission is extending the comment period on Nasdaq's Form 1 to August 29, 2001.

By the Commission.
Jonathan G. Katz,
Secretary.

[FR Doc. 01-19522 Filed 8-3-01; 8:45 am]

BILLING CODE 8010-01-P